FEDERAL COMMUNICATIONS COMMISSION

[CC Docket No. 96-45; FCC 00J-3]

Federal-State Joint Board on Universal Service Seeks Comment on Rural Task Force Recommendation

AGENCY: Federal Communications Commission.

ACTION: Notice; solicitation of comments.

SUMMARY: In a Public Notice in this proceeding released on October 4, 2000, the Federal-State Joint Board on Universal Service sought comment on the Rural Task Force recommendation for universal service reform for rural carriers.

DATES: Submit comments on or before November 3, 2000 and reply comments on or before November 30, 2000.

ADDRESSES: See Supplementary Information section for where and how to file comments.

FOR FURTHER INFORMATION CONTACT: Gene Fullano (202) 418-7400 TTY: (202) 418-0484.

SUPPLEMENTARY INFORMATION: In the May 1997 Universal Service Order, 62 FR 32862 (June 17, 1997), the Commission, acting on the recommendation of the Federal-State Joint Board on Universal Service (the Joint Board), encouraged the Joint Board to establish a Rural Task Force to “provide valuable assistance in identifying the issues unique to rural carriers and analyzing the appropriateness of proxy cost models for rural carriers.” On September 17, 1997, the Joint Board announced the creation of the Rural Task Force and directed it to present a report to the Joint Board making specific recommendations on the establishment of a forward-looking economic cost mechanism for rural telephone companies. The Joint Board will consider this report in formulating a recommendation to the Commission for universal service reform for rural carriers.

On September 29, 2000, the Rural Task Force submitted the Rural Task Force Recommendation To The Federal-State Joint Board On Universal Service. This recommendation, as well as supporting materials, are available on the Joint Board's Web page at http://www.fcc.gov/ccb/universal service/joint.html and the Rural Task Force's Web site at http://www.wutc.wa.gov/rtf. Consistent with the procedures outlined below, the Joint Board seeks comment on the recommendation.

Pursuant to sections 1.415 and 1.419 of the Commission's rules, 47 CFR 1.415, 1.419, interested parties may file comments on or before November 3, 2000, and reply comments on or before November 30, 2000. All filings should reference Federal-State Joint Board On Universal Service, CC Docket No. 96-45, Comments on the Rural Task Force Recommendation and should include the FCC number shown on this Public Notice. Comments may be filed using the Commission's Electronic Comment Filing System (ECFS) or by filing paper copies. See Electronic Filing of Documents in Rulemaking Proceedings, 63 FR 24121 (1998). Comments filed through the ECFS can be sent as an electronic file via the Internet to <http://www.fcc.gov/e-file/ecfs.html>. Generally, only one copy of an electronic submission must be filed. If multiple docket or rulemaking numbers appear in the caption of this proceeding, however, commenters must transmit one electronic copy of the comments to each docket or rulemaking number referenced in the caption. In completing the transmittal screen, commenters should include their full name, Postal Service mailing address, and the applicable docket or rulemaking number. Parties may also submit electronic comments by Internet e-mail. To receive filing instructions for e-mail comments, commenters should send an e-mail to ecfs@fcc.gov, and should include the following words in the body of the message, “get form <your e-mail address>.” A sample form and directions will be sent in reply. Parties who choose to file by paper must file an original and four copies of each filing. If more than one docket or rulemaking number appears in the caption of this proceeding, commenters must submit two additional copies for each additional docket or rulemaking number. All filings must be sent to the Commission's Secretary, Magalie Roman Salas, Office of the Secretary, Federal Communications Commission, 445 12th Street, SW., Washington, DC 20554.

Parties should also send three paper copies of their filing to Sheryl Todd, Accounting Policy Division, Common Carrier Bureau, Federal Communications Commission, 445 Twelfth Street SW., Room 5-B540, Washington, DC 20554 and to the individuals listed on the attached service list. In addition, commenters must send diskette copies to the Commission's copy contractor, International Transcription Service, Inc., 1231 20th Street, NW., Washington, DC 20037.

Dated: October 11, 2000.
Magalie Roman Salas,
Secretary.

Service List

The Honorable Susan Ness, Commissioner, FCC Joint Board Chair, Federal Communications Commission, 445 12th Street, SW, Rm. 8-B115H, Washington, DC 20554

The Honorable Harold Furchtgott-Roth, Commissioner, Federal Communications Commission 445 12th Street, S.W., Rm. 8-B115H, Washington, DC 20554

The Honorable Gloria Tristani, Commissioner, Federal Communications Commission, 445 12th Street, S.W., Rm. 8-B115H, Washington, DC 20554

The Honorable Laska Schoenfelder, Commissioner, State Joint Board Chair, South Dakota Public Utilities Commission, State Capitol, 500 East Capitol Street, Pierre, SD 57501-5070

The Honorable Martha Hogerty, Public Counsel, Missouri Office of Public Counsel, 301 West High St., Suite 250, Truman Building, P.O. Box 7800, Jefferson City, MO 65102

The Honorable Bob Rowe, Commissioner, Montana Public Service Commission, 1701 Prospect Avenue, P.O. Box 202601, Helena, MT 59620-2601

The Honorable Patrick H.Wood, III, Chairman, Texas Public Utility Commission, 1701 North Congress Avenue, P.O. Box 13326, Austin, TX 78711-3326

The Honorable Nanette G. Thompson, Chair, Regulatory Commission of Alaska 1016 West Sixth Avenue, Suite 400, Anchorage, AK 99501-1693

Rowland Curry, Chief Engineer, Texas Public Utility Commission, 1701 North Congress Avenue, P.O. Box 13326, Austin, TX 78701-3326

Greg Fogleman, Economic Analyst, Florida Public Service Commission, 2540 Shumard Oak Blvd., Gerald Gunter Bldg., Tallahassee, FL 32399-0850

Mary E.Newmeyer, Federal Affairs Advisor, Alabama Public Service Commission, 100 N. Union Street, Ste. 800, Montgomery, AL 36104

Joel Shifman, Senior Advisor, Maine Public Utilities Commission, 242 State Street, State House Station 18, Augusta ME 04333-0018

Peter Bluhm, Director of Policy Research, Vermont Public Service Board, Drawer 20, 112 State St., 4th Floor, Montpieller, VT 05620-2701

Charlie Bolle, Policy Advisor, Nevada Public Utilities Commission, 1150 E. Williams Street, Carson City, NV 89701-3105

Carl Johnson, Telecom Policy Analyst, New York Public Service Commission, 3 Empire State Plaza, Albany, NY 12223-1350

Lori Kenyon, Common Carrier Specialist, Regulatory Commission of Alaska, 1016 West 6th Ave, Suite 400, Anchorage, AK 99501

Susan Stevens Miller, Assistant General Counsel, Maryland Public Service Commission, 16th Floor, 6 Paul Street, Baltimore, MD 21202-6806

Tom Wilson, Economist, Washington Utilities & Transportation Commission, 1300 Evergreen Park Drive, S.W., P.O. Box 47250, Olympia, WA 98504-7250

Philip McClelland, Senior Assistant Consumer Advocate, PA Office of Consumer Advocate, 555 Walnut Street, Forum Place, 5th Floor, Harrisburg, PA 17101-1923

Barbara Meisenheimer, Consumer Advocate, Missouri Office of Public Counsel, 301 West High St., Suite 250, Truman Building, P.O. Box 7800, Jefferson City, MO 65102

Earl Poucher, Legislative Analyst, Office of the Public Counsel, 111 West Madison, Rm. 812, Tallahassee, FL 32399-1400

Ann Dean, Assistant Director, Maryland Public Service Commission, 16th Floor, 6 Paul Street, Baltimore, MD 21202-6806

David Dowds, Public Utilities Supervisor, Florida Public Service Commission, 2540 Shumard Oaks Blvd., Gerald Gunter Bldg., Tallahassee, FL 32399-0850

[FR Doc. 00-26599 Filed 10-16-00; 8:45 am]

BILLING CODE 6712-01-P